DEPARTMENT OF LABOR

Employment and Training Administration

[TA-W-57,716]

DaimlerChrysler Commercial Buses NC, Greensboro, NC; Notice of Termination of Investigation

Pursuant to Section 221 of the Trade Act of 1974, an investigation was initiated on August 11, 2005 in response to a petition filed by a company official on behalf of workers at DaimlerChrysler Commercial Buses NC, Greensboro, North Carolina.

The petitioner has requested that the petition be withdrawn. Consequently, the investigation has been terminated.

Signed in Washington, DC, this 25th day of August, 2005.
Elliott S. Kushner,
Certifying Officer, Division of Trade Adjustment Assistance.

[FR Doc. E5-5294 Filed 9-27-05; 8:45 am]

BILLING CODE 4510-30-P